DEPARTMENT OF TRANSPORTATION

Surface Transportation Board

[STB Finance Docket No. 33407]

Dakota, Minnesota & Eastern Railroad Corporation Construction Into the Powder River Basin

AGENCY: Surface Transportation Board, DOT.

ACTION: Notice of availability of final environmental impact statement.

SUMMARY: The Dakota, Minnesota & Eastern Railroad Corporation (DM&E) filed an application in 1998 with the Surface Transportation Board (Board) for authority to construct and operate new rail line facilities in east-central Wyoming, southwest South Dakota, and south-central Minnesota. This project, known as the Powder River Basin (PRB) Expansion Project, would involve construction of approximately 280 miles of new rail line to extend DM&E's existing rail line from Wall, South Dakota west to coal mines in Wyoming's Powder River Basin. Reconstruction of another approximately 600 miles of DM&E's existing rail would allow operation of unit coal trains along the new and reconstructed route.

In addition to the Board's authorization, the project would require actions by five other Federal agencies: the U.S. Department of Agriculture Forest Service; the U.S. Department of Interior Bureaus of Land Management and Reclamation; the U.S. Army Corps of Engineers; and the U.S. Coast Guard. In conducting the necessary environmental review, the Board's Section of Environmental Analysis (SEA), in cooperation with these five Federal agencies, published a Draft Environmental Impact Statement (Draft EIS) on September 27, 2001. This was followed by a 152-day comment period and 12 public meetings, which produced more than 8,600 comments on the Draft EIS. As required by the National Environmental Policy Act (NEPA), SEA has reviewed and evaluated all comments, prepared responses, and undertaken additional research and analysis, as appropriate.

The Final EIS reflects SEA's independent analysis and incorporates input from agencies, elected officials, Tribes, communities, organizations, businesses, and members of the public. In addition to presenting the results of SEA's additional analysis, and responses to Draft EIS comments, the Final EIS includes SEA's final recommendations to the Board for mitigating, to the extent possible, the potentially significant adverse environmental impacts associated with the proposed project, if the Board decides to give final approval to DM&E's proposal. The Final EIS recommends far-reaching and extensive environmental mitigation—147 conditions in all. The Final EIS also contains information on the anticipated cost of SEA's recommended environmental mitigation and the mitigation that may be required by the five cooperating agencies.

On December 10, 1998, the Board issued a decision finding that DM&E's application satisfies the transportation-related requirements of 49 U.S.C. 10901. The Board made it clear that it would issue a subsequent decision on the entire proposed project after completion of the environmental review process required by NEPA.

Issuance of this Final EIS terminates the Board's environmental review process. SEA has determined that neither a supplement to the Draft EIS nor an additional comment period on this Final EIS is warranted. The Board will now issue a final decision, based on the entire environmental record, including public comments, the Draft EIS, the Final EIS, and SEA's recommended environmental mitigation. In its final decision, the Board will grant, deny, or grant with conditions the proposed PRB Expansion Project. The cooperating agencies will also issue decisions under their own governing statutes, based on the EIS and various applications submitted by DM&E.

DM&E cannot begin construction of its new rail line until the Board issues a final decision approving DM&E's application and the decision has become effective. Under the regulations of the President's Council on Environmental Quality implementing NEPA, no decision of the Board or cooperating agency on DM&E's proposal may be made until 30 days after the U.S. Environmental Protection Agency publishes a Notice of Availability of the Final EIS in the Federal Register (anticipated on November 30, 2001).

FOR FURTHER INFORMATION CONTACT: Victoria Rutson, Environmental Project Director, Section of Environmental Analysis, Surface Transportation Board, Powder River Basin Expansion Project, 1-877-404-3044; U.S. Department of Agriculture Forest Service: Wendy Schmitzer, (307) 358-4690; U.S. Department of the Interior Bureau of Land Management: Bill Carson, (307) 746-6607; U.S. Army Corps of Engineers: Chandler Peter, (307) 772-2300 (Omaha District) and Timothy Fell, (651) 290-5360 (St. Paul District); U.S. Department of the Interior Bureau of Reclamation: Kenneth Parr, (605) 394-9757; U.S. Coast Guard: Bruce McLaren, (314) 539-3724. [TDD/TDY for hearing impaired: 1-800-877-8339.]

SUPPLEMENTARY INFORMATION: Public Availability: The entire Final EIS has been mailed to key reviewing agencies, Governors, elected officials, and appropriate county officers, as well as the parties of record. It is also available to all interested persons for review at over 80 public libraries. For information on where to view a copy of the Final EIS, please call SEA's toll-free Environmental Hotline at 1-877-404-3044. The entire document is also available on the Board's Web site (http://www.stb.dot.gov), under “Decisions & Notices,” listed as “Environmental Review” by Service Date (November 19, 2001), Docket Number (FD 33407), or Docket Prefix (FD). Finally, a printed copy of the Final EIS may be obtained for a fee by contacting Da-2-Da Legal, Room 405, 1925 K Street, NW, Washington, DC 20006, telephone (202) 293-7776 or via http://Da_to_Da@hotmail.com.

By the Board, Victoria J. Rutson, Chief, Section of Environmental Analysis.
Vernon A. Williams,
Secretary.

[FR Doc. 01-28843 Filed 11-16-01; 8:45 am]

BILLING CODE 4915-00-P